DEPARTMENT OF TRANSPORTATION

Federal Aviation Administration

Approval of Noise Compatibility Program Camarillo Airport, Camarillo, CA

AGENCY: Federal Aviation Administration, DOT.

ACTION: Notice.

SUMMARY: The Federal Aviation Administration (FAA) announces its findings on the Noise Compatibility Program submitted by the county of Ventura, Camarillo, California, under the provisions of Title I of the Aviation Safety and Noise Abatement Act of 1979 (Public Law 96-193) and Title 14, Code of Federal Regulations, Part 150 (FAR Part 150). These findings are made in recognition of the description of Federal and nonfederal responsibilities in Senate Report No. 96-52 (1980). On September 10, 1998, the FAA determined that the noise exposure maps submitted by the county of Ventura under FAR Part 150 were in compliance with applicable requirements. On May 4, 2001, the Acting Associate Administrator for Airports approved the Camarillo Airport Noise Compatibility Program. All twenty-three of the program measures have been approved. Fourteen measures were approved as voluntary measures and nine measures were approved outright.

EFFECTIVE DATE: The effective date of the FAA's approval of the Camarillo Airport Noise Compatibility Program is May 4, 2001.

FOR FURTHER INFORMATION CONTACT: Brian Armstrong, Airport Planner, Airports Division, AWP-611.1, Federal Aviation Administration, Western-Pacific Region. Mailing address: P.O. Box 92007, Los Angeles, California 90009-2007. Telephone: (310) 725-3614. Street address: 15000 Aviation Boulevard, Hawthorne, California 90261. Documents reflecting this FAA action may be reviewed at this location.

SUPPLEMENTARY INFORMATION: This notice announces that the FAA has given its overall approval to the Noise Compatibility Program for the Camarillo Airport, effective May 4, 2001. Under section 104(a) of the Aviation Safety and Noise Abatement Act of 1979 (hereinafter referred to as “the Act”), an airport operator who has previously submitted a Noise Exposure Map, may submit to the FAA, a Noise Compatibility Program which sets forth the measures taken or proposed by the airport operator for the reduction of existing noncompatible land uses and prevention of additional noncompatible land uses within the area covered by the Noise Exposure Maps. The Act requires such programs to be developed in consultation with interested and affected parties including local communities, government agencies, airport users, and FAA personnel.

Each airport Noise Compatibility Program developed in accordance with FAR Part 150 is a local program, not a federal program. The FAA does not substitute its judgment for that of the airport proprietor with respect to which measures should be recommended for action. The FAA's approval or disapproval of FAR Part 150 program recommendations is measured according to the standards expressed in FAR Part 150 and is limited to the following determinations:

a. The Noise Compatibility Program was developed in accordance with the provisions and procedures of FAR Part 150;

b. Program measures are reasonably consistent with achieving the goals of reducing existing noncompatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, Section 150.5. Approval is not a determination concerning the acceptability of land uses under Federal, State, or local law. Approval does not by itself constitute a FAA implementing action. A request for Federal action or approval to implement specific noise compatibility measures may be required, and a FAA decision on the request may require an environmental assessment of the proposed action. Approval does not constitute a commitment by the FAA to financially assist in the implementation of the program nor a determination that all measures covered by the program are eligible for grant-in-aid funding from the FAA. Where Federal funding is sought, requests for project grants must be submitted to the FAA Airports Division office in Hawthorne, California.

The county of Ventura submitted the Noise Exposure Maps, descriptions, and other documentation produced during the noise compatibility planning study conducted from May 1997 through March 2000 to the FAA on May 28, 1998, and March 10, 2000. The Camarillo Airport Noise Exposure Maps were determined by FAA to be in compliance with applicable requirements on September 10, 1998. Notice of this determination was published in the Federal Register on September 23, 1998.

The Camarillo Airport study contains a proposed Noise Compatibility Program comprised of actions designed for implementation by airport management and adjacent jurisdictions. It was requested that the FAA evaluate and approve this material as a Noise Compatibility Program as described in section 104(b) of the Act. The FAA began its review of the program on November 6, 2000, and was required by a provision of the Act to approve or disapprove the program within 180 days (other than the use of new flight procedures for noise control). Failure to approve or disapprove such program within the 180-day period shall be deemed to be an approval of such program.

The submitted program contained twenty-three proposed actions for noise mitigation on and off the airport. The FAA completed its review and determined that the procedural and substantive requirements of the Act and FAR Part 150 have been satisfied. The Acting Associate Administrator for Airports approved the overall program effective May 4, 2001.

All twenty-three of the program measures have been approved. The following fourteen measures were approved as voluntary measures: Continue prohibiting formation takeoffs and landings without prior permission from the Director of Airports; Continue advising north traffic to fly the downwind leg along U.S. Highway 101; Continue advising Runway 26 arrivals to make base leg turns west of Las Posas Road; Continue advising pattern traffic on Runway 8 to turn to the crosswind leg prior to Las Posas Road; Continue advising right traffic on Runway 8 so as to avoid low overflights of the city; Advise straight-in VFR approaches to Runway 26 to remain south of U.S. Highway 101 and south of housing areas; Advise Runway 26 departures to fly west and north of city when turning right; Require aircraft over 80,000 pounds to land on Runway 8 and depart on Runway 26 whenever safe and practicable; When landings on Runway 26 are necessary, require aircraft over 80,000 pounds to make offset visual approaches from the southeast over farmland; Promote use of NBAA standard noise abatement departure procedures by jets; Promote use of AOPA Noise Awareness Steps by light single and twin engine aircraft; Continue promoting a standard left hand traffic pattern on Runway 26; Designate Runway 26 as the calm wind runway; and advise departures on Runway 8 to make right turns to avoid overflights of city. The following nine measures were approved outright: Use combined 2003 and 2018 noise contours as basis for noise compatibility planning; Set 60 CNEL as the threshold for promoting airport compatible development; Preserve airport-compatible land use designations within 60 CNEL and beneath the close-in traffic pattern; Establish noise compatible guidelines for the review of development projects within the “compatible land use preservation area” and require fair disclosure agreements and covenants for noise-sensitive uses granted a development permit; Maintain and enhance system for receiving, analyzing, and responding to noise complaints; Review Noise Compatibility Plan implementation; Publish pilot guide; Update Noise Exposure Maps and Noise Compatibility Program; Acquire noise monitors.

These determinations are set forth in detail in a Record of Approval endorsed by the Acting Associate Administrator for Airports on May 4, 2001. The Record of Approval, as well as other evaluation materials and the documents comprising the submittal are available for review at the FAA office listed above and at the administrative offices of the county of Ventura, Camarillo, California.

Issued in Hawthrone, California on May 14, 2001.
Ellsworth L. Chan,
Acting Manager, Airports Division, AWP-600, Western-Pacific Region.

[FR Doc. 01-12835 Filed 5-21-01; 8:45 am]

BILLING CODE 4910-13-M